DEPARTMENT OF ENERGY

Federal Energy Regulatory Commission

Sunshine Act Meetings

The following notice of meeting is published pursuant to section 3(a) of the government in the Sunshine Act (Pub. L. 94-409), 5 U.S.C. 552b:

Agency Holding Meeting: Federal Energy Regulatory Commission.

Date and Time: June 26, 2025, 10:00 a.m.

PLACE: Room 2C, 888 First Street NE, Washington, DC 20426. Open to the public.

STATUS: Open.

MATTERS TO BE CONSIDERED: Agenda.

* Note—Items listed on the agenda may be deleted without further notice.

CONTACT PERSON FOR MORE INFORMATION: Debbie-Anne A. Reese, Secretary, Telephone (202) 502-8400.

For a recorded message listing items stricken from or added to the meeting, call (202) 502-8627.

This is a list of matters to be considered by the Commission. It does not include a listing of all documents relevant to the items on the agenda. All public documents, however, may be viewed online at the Commission's website at https://elibrary.ferc.gov/eLibrary/search using the eLibrary link.

1126th—Meeting
[Open; June 26, 2025, 10:00 a.m.]
Item No. | Docket No. | Company
Administrative
A-1 | AD25-1-000 | Agency Administrative Matters.
A-2 | AD25-2-000 | Customer Matters, Reliability, Security And Market Operations.
A-3 | AD25-13-000 | Iberian Peninsula Blackout Update.
Electric
E-1 | ER24-2046-000 | Midcontinent Independent System Operator, Inc.
E-2 | ER24-2026-000 | Southwest Power Pool, Inc.
E-3 | OMITTED
E-4 | RM20-12-000 | Potential Enhancements to the Critical Infrastructure Protection Reliability Standards.
E-5 | EL24-115-001 | California Public Utility Commission, the California Department of Water Resources State Water Project; the Cities of Anaheim, Azusa, Banning, Colton, Pasadena, and Riverside, California; and the Northern California Power Agency v. San Diego Gas & Electric Company.
E-6 | ER25-270-001 | San Diego Gas & Electric Company.
E-7 | ER24-2797-001, ER24-2871-001 | Midcontinent Independent System Operator, Inc.
| ER24-2798-001, ER24-2825-002 | Southwest Power Pool, Inc.
E-8 | ER22-2361-000, ER22-2361-001 | Puget Sound Energy, Inc.
E-9 | ER25-785-002 | PJM Interconnection, L.L.C.
E-10 | ER25-2005-000 | Grant Solar, LLC.
E-11 | EL25-55-000 | LSP Transmission Holdings II, LLC, LS Power Midcontinent, LLC, Central Transmission, LLC, and LS Power Grid DRS Holdings, LLC v. Midcontinent Independent System Operator, Inc.
E-12 | QF19-881-002, QF13-22-002, QF13-653-002, QF13-654-002, QF13-655-002, QF13-656-002, QF15-719-003 | Branch Street Solar Partners, LLC, Picture Rocks Solar, LLC, Sol Orchard San Diego 21, LLC, Sol Orchard San Diego 22, LLC, Sol Orchard San Diego 23, LLC, Sol Orchard San Diego 20, LLC, Klamath Falls Solar 2, LLC.
E-13 | RM24-7-000 | Critical Infrastructure Protection Reliability Standard CIP-015-1—Cyber Security—Internal Network Security Monitoring.
Hydro
H-1 | P-7987-016 | Unique Places, LLC.
H-2 | P-15307-000 | Premium Energy Holdings, LLC.
Certificates
C-1 | CP24-512-000 | Texas Connector Pipeline, LLC.
C-2 | CP24-508-000 | Rover Pipeline LLC.
C-3 | CP25-260-000 | Enbridge Offshore Facilities, LLC and Oceanus Pipeline Company, LLC.

A free webcast of this event is available through the Commission's website. Anyone with internet access who desires to view this event can do so by navigating to www.ferc.gov' s Calendar of Events and locating this event in the Calendar. The Federal Energy Regulatory Commission provides technical support for the free webcasts. Please call (202) 502-8680 or email customer@ferc.gov if you have any questions.

Immediately following the conclusion of the Commission Meeting, a press briefing will be held in the Commission Meeting Room. Members of the public may view this briefing in the designated overflow room. This statement is intended to notify the public that the press briefings that follow Commission meetings may now be viewed remotely at Commission headquarters but will not be telecast.

Issued: June 18, 2025.
Debbie-Anne A. Reese,
Secretary.

[FR Doc. 2025-11577 Filed 6-20-25; 4:15 pm]

BILLING CODE 6717-01-P